DEPARTMENT OF HEALTH AND HUMAN SERVICES

Centers for Medicare & Medicaid Services

[Document Identifier: CMS-372(S), CMS-R-306, CMS-10180 and CMS-R-199]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Reinstatement without change of a currently approved collection; Title of Information Collection: Annual Report on Home and Community Based Services Waivers and Supporting Regulations in 42 CFR 440.180 and 441.300-310; Use: CMS is asking the States to report financial and statistical information concerning the numbers of Medicaid beneficiaries receiving waiver services, the type of services provided and the costs of those services. The information is usually taken from State Medicaid agency data processing systems. This data is summarized and may be submitted to CMS through the 372 web-based form. The report is used by CMS to compare actual data in the approved waiver estimates and, in conjunction with the waiver compliance review reports, the information provided is compared to that in the Medicaid Statistical Information System (CMS-R-284, OCN 0938-0345) report and Federal financial participation claimed on a State's Quarterly Expenditure Report (CMS-64, OCN 0938-0067), to determine whether to continue the State's home and community-based services waiver. States' estimates of cost and utilization for renewal purposes are based upon the data compiled in the CMS Form 372(S) reports. There have been no changes to the PRA package that is associated with the 60-day notice that published on January 24, 2012 (77 FR 3477); Form Number: CMS-372(S) (OCN 0938-0272); Frequency: Yearly; Affected Public: State, Local, or Tribal Governments; Number of Respondents: 49; Total Annual Responses: 305; Total Annual Hours: 13,115. (For policy questions regarding this collection contact Ralph Lollar at 410-786-0777. For all other issues call 410-786-1326.)

2. Type of Information Collection Request: Reinstatement without change of a previously approved collection; Title of Information Collection: Condition of Participation—Use of Restraint and Seclusion in Psychiatric Residential Treatment Facilities Providing Psychiatric Services to Individuals Under Age 21 and Supporting Regulations at 42 CFR 483.350-483.376; Use: Psychiatric Residential Treatment Facilities are required to report deaths, serious injuries and attempted suicides to the State Medicaid Agency and the Protection and Advocacy Organization. They are also required to provide residents the restraint and seclusion policy in writing, and to document in the residents' records all activities involving the use of restraint and seclusion. There have been no changes to the PRA package that is associated with the 60-day notice that published on January 13, 2012 (77 FR 2067); Form Number: CMS-R-306 (OCN 0938-0833); Frequency: Once and Occasionally; Affected Public: Private Sector (Business or other for-profits); Number of Respondents: 376; Total Annual Responses: 329,500; Total Annual Hours: 501,750. (For policy questions regarding this collection contact Jean Close at 410-786-2804 or Melissa Musotto at 410-786-6962. For all other issues call 410-786-1326.)

3. Type of Information Collection Request: Extension of a currently approved collection; Title of Information Collection: Children's Health Insurance Program (CHIP) Report on Payables and Receivables; Use: Collection of CHIP data and the calculation of the CHIP Incurred But Not Reported (IBNR) estimate are pertinent to CMS' financial audit. The CFO auditors have reported the lack of an estimate for CHIP IBNR payables and receivables as a reportable condition in the FY 2005 audit of CMS's financial statements. It is essential that CMS collect the necessary data from State agencies in FY 2006, so that CMS continues to receive an unqualified audit opinion on its financial statements. Program expenditures for the CHIP have increased since its inception; as such, CHIP receivables and payables may materially impact the financial statements. The CHIP Report on Payables and Receivables will provide the information needed to calculate the CHIP IBNR; Form Number: CMS-10180 (OMB#: 0938-0988); Frequency: Reporting—Annually; Affected Public: State, Local or Tribal governments; Number of Respondents: 56; Total Annual Responses: 56; Total Annual Hours: 392. (For policy questions regarding this collection contact Michele Myers at 410-786-7911. For all other issues call 410-786-1326.)

4. Type of Information Collection Request: Extension of a currently approved collection; Title of Information Collection: Medicaid Report on Payables and Receivables; Use: The Chief Financial Officers (CFO) Act of 1990, as amended by the Government Management Reform Act (GMRA) of 1994, requires government agencies to produce auditable financial statements. Because the Centers for Medicare & Medicaid Services (CMS) fulfills its mission through its contractors and the States, these entities are the primary source of information for the financial statements. There are three basic categories of data: Expenses, payables, and receivables. The CMS-64 is used to collect data on Medicaid expenses. The CMS-R-199 collects Medicaid payable and receivable accounting data from the States. Form Number: CMS-R-199 (OMB#: 0938-0697); Frequency: Reporting—Annually; Affected Public: State, Local or Tribal governments; Number of Respondents: 56; Total Annual Responses: 56; Total Annual Hours: 336. (For policy questions regarding this collection contact Michele Myers at 410-786-7911. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on May 4, 2012.

OMB, Office of Information and Regulatory Affairs, Attention: CMS Desk Officer, Fax Number: (202) 395-6974, Email: OIRA_submission@omb.eop.gov.

Dated: March 28, 2012.
Martique Jones,
Director, Regulations Development Group, Division B, Office of Strategic Operations and Regulatory Affairs.

[FR Doc. 2012-8011 Filed 4-3-12; 8:45 am]

BILLING CODE 4120-01-P